DEPARTMENT OF THE INTERIOR

Fish and Wildlife Service

[FWS-R7-R-2012-N207; FXRS1265070000S3-134-FF07R06000]

Arctic National Wildlife Refuge, Alaska; Revised Comprehensive Conservation Plan and Final Environmental Impact Statement

AGENCY: Fish and Wildlife Service, Interior.

ACTION: Notice of availability.

SUMMARY: We, the U.S. Fish and Wildlife Service (Service), announce the availability of a revised comprehensive conservation plan (plan/CCP) and final environmental impact statement (EIS) for the Arctic National Wildlife Refuge (refuge, NWR) for a 30-day public review. In this revised plan and final EIS, we describe how we propose to manage the refuge for the next 15 years.

DATES: The review period will end February 26, 2015. We are not soliciting comments on the plan during this review period.

ADDRESSES: You may submit questions or requests for more information by any one of the following methods:

• Email: ArcticRefugeCCP@fws.gov. Include “Arctic National Wildlife Refuge Revised CCP and Final EIS” in the subject line of the message.

• Fax: Attention: Arctic CCP, Planning Team Leader, Arctic National Wildlife Refuge, (907) 456-0428.

• U.S. Mail: Attention: Stephanie Brady, Arctic CCP, Arctic National Wildlife Refuge, 101 12th Ave., Rm. 236, Fairbanks, AK 99701.

• In-Person Drop Off: You may drop off questions during regular business hours at the above addresses.

You will find the plan and EIS, as well as information about the planning process and a summary of the revised plan, on the planning Web site: http://arctic.fws.gov/ccp.htm.

FOR FURTHER INFORMATION CONTACT: Stephanie Brady, (907) 306-7448.

SUPPLEMENTARY INFORMATION:

Introduction

With this notice, we continue the comprehensive conservation planning process for Arctic National Wildlife Refuge, which we began by publishing a notice of intent in the Federal Register (75 FR 17763) on April 7, 2010. For more about the initial process and the history of this refuge, see that notice.

Background

The Alaska National Interest Lands Conservation Act (ANILCA) requires us to develop a CCP for each national wildlife refuge in Alaska. The purpose of developing a CCP is to provide refuge managers with a strategy for achieving refuge purposes and contributing toward the mission of the National Wildlife Refuge System (NWRS), consistent with sound principles of fish and wildlife management, conservation, legal mandates, and Service policies. In addition to outlining broad management direction for conserving wildlife and their habitats, CCPs identify wildlife-dependent recreational opportunities available to the public, including opportunities for hunting, fishing, wildlife observation and photography, and environmental education and interpretation. In general, we review and update CCPs in Alaska every 15 to 20 years.

ANILCA lists specific purposes for each refuge in Alaska. These purposes provide the foundation for developing and prioritizing the management goals and objectives for each Alaskan refuge. The planning process is a way for us and the public to evaluate management goals and objectives that will ensure the best possible approach to wildlife, plant, and habitat conservation while providing for wildlife-dependent recreation opportunities that are compatible with each refuge's establishing purposes and the mission of the NWRS.

Additional Information

The revised plan may be found at http://arctic.fws.gov/ccp.htm. The document incorporates an EIS, prepared in accordance with the National Environmental Policy Act (NEPA) (43 U.S.C. 4321 et seq.).

Alternatives Considered

The revised plan and final EIS includes detailed information about the refuge, planning process, issues, and management alternatives considered. The final EIS includes discussions of six alternatives for refuge management. All six alternatives address three significant issues: Wilderness recommendations, Wild and Scenic River recommendations, and Kongakut River visitor use management. The Service's preferred alternative is described in the revised Plan and final EIS.

Alternative A: Current Management (No Action)

This alternative reflects the current management direction of Arctic NWR. It provides the baseline against which to compare other alternatives. Under Alternative A, the refuge would continue to be managed according to the direction included in the 1988 plan. Current goals and objectives would not be changed.

• Wilderness—No new areas would be recommended for Wilderness designation.

• Wild and Scenic Rivers—No new rivers would be recommended for inclusion in the Wild and Scenic Rivers System.

• Kongakut River Visitor Use Management—Managers would continue to manage visitors using the following practices: Group size limits for guided groups (7 hikers, 10 floaters); and No group size limits for non-guided groups, although we recommend using commercial limits; Information on low-impact camping and other best practices would continue to be available on the Refuge Web site. Commercial service providers would continue to have special use permits with occasional compliance checks by the Service.

Monitoring of physical and social conditions and visitor impacts would continue to occur occasionally. Air operator permit holders would be required to land on non-vegetated surfaces and asked to follow all Federal Aviation Administration (FAA) advisories during flight operations. The Service would prepare a Public Use Management Plan (as required by the 1988 plan).

Alternative B

• Wilderness—Recommend the Brooks Range Wilderness Study Area to Congress for Wilderness designation.

• Wild and Scenic Rivers—Recommend the Hulahula, Kongakut, and Marsh Fork Canning Rivers to Congress for inclusion into the National Wild and Scenic Rivers System.

• Kongakut River Visitor Use Management—Under this alternative, and immediately upon plan approval, we would proceed with two concurrent step-down plans: A Visitor Use Management Plan (VUMP) and a Wilderness Stewardship Plan (WSP). In addition to the practices identified under Alternative A, we would implement interim measures. The refuge would expand monitoring of degraded sites, work with guides to reduce visitor volume, work with air operators to disperse flights over high-use areas, publish a schedule of when guides will be launching trips, step up enforcement of permit conditions and Refuge regulations, and set an interim cap on commercial recreation guides from 2013 through 2016 or through completion of the VUMP/WSP, whichever comes first.

Alternative C

• Wilderness—Recommend the Coastal Plain Wilderness Study Area to Congress for Wilderness designation.

• Wild and Scenic Rivers—Recommend the Atigun River to Congress for inclusion into the National Wild and Scenic Rivers System.

• Kongakut River Visitor Use Management—Under this alternative, management would be the same as under Alternative B.

Alternative D

• Wilderness—Recommend the Brooks Range and Porcupine Plateau Wilderness Study Areas to Congress for Wilderness designation.

• Wild and Scenic Rivers—Recommend the Atigun, Kongakut, and Marsh Fork Canning Rivers, and those portions of the Hulahula River managed by the Refuge, to Congress for inclusion into the National Wild and Scenic Rivers System.

• Kongakut River Visitor Use Management—Under this alternative, management would be the same as Alternative B, except there would be no interim cap on commercial recreation guides.

Alternative E

• Wilderness—Recommend the Brooks Range, Porcupine Plateau, and Coastal Plain Wilderness Study Areas to Congress for Wilderness designation.

• Wild and Scenic Rivers—Recommend the Atigun, Hulahula, Kongakut, and Marsh Fork Canning Rivers to Congress for inclusion into the National Wild and Scenic Rivers System.

• Kongakut River Visitor Use—Under this alternative, management would be the same as under Alternative D.

Alternative F

Under Alternative F much of the management direction outlined in Alternative A would continue. The goals and objectives and management policies and guidelines described in the plan would be adopted.

• Wilderness—No new areas would be recommended for Wilderness designation.

• Wild and Scenic River—No new rivers would be recommended for inclusion into the Wild and Scenic Rivers System.

• Kongakut River Visitor Use—Under this alternative, management would be the same as under Alternative D.

Preferred Alternative

The Service selected Alternative E as the Preferred Alternative for the revised plan for Arctic Refuge. Alternative E addresses the key issues and concerns identified during the planning process and will best achieve the purposes of the refuge, the mission of the NWRS, and maintain the refuge's special values.

Wilderness: Alternative E recommends the qualified and suitable lands and waters in three Wilderness Study Areas (nearly 12.28 million acres) for inclusion in the National Wilderness Preservation System. If Congress were to designate these acres as Wilderness, nearly the entire refuge would be managed to preserve Wilderness character while providing for the public purposes of recreational, scenic, scientific, educational, conservation, and historical use. Wilderness Act purposes would be within and supplemental to the purposes of the refuge. Wilderness designation would provide statutory protection for resources in the refuge and represents a more permanent commitment to perpetuating the refuge's natural conditions, ecological processes, and wilderness-associated recreational opportunities. Until Congress makes a decision regarding this recommendation, the Wilderness Study Areas will continue to be managed under Minimal Management.

Wild and Scenic Rivers: Four rivers are recommended for inclusion in the National Wild and Scenic Rivers System: The Atigun, Marsh Fork Canning, Hulahula, and Kongakut rivers. The Refuge will implement the interim management prescriptions described in the revised plan (Appendix I) to maintain the outstandingly remarkable and other values of these rivers until Congress makes a decision regarding the recommendation. If Congress were to designate these four rivers, the refuge would prepare a Comprehensive River Management Plan specific to each of the four rivers. These plans would: Describe the existing resource conditions in the river corridor; define the goals and desired conditions for protecting river values; address the types and amounts of public use the river area can sustain (i.e., user capacities); address water quality issues and instream flow requirements; and include a monitoring strategy to maintain desired conditions.

Kongakut River Visitor Management: The refuge will implement interim management measures (not including a cap on commercial recreation guides) to better manage visitor use of the Kongakut River pending completion of a refuge-wide Visitor Use Management Plan. These interim measures include: Working with guides to reduce visitor volume and to disperse flights; publishing a launch schedule; developing new outreach materials with targeted messages; increasing enforcement of permit conditions and refuge regulations; and identifying and repairing degraded sites.

Summary: Arctic Refuge serves a distinctive function in the NWRS as a landscape that is essentially unaltered and free-functioning, contains outstanding natural diversity, and provides a benchmark for wilderness qualities and for perpetuating biological integrity, diversity, and environmental health. Alternative E provides assurance that the refuge's special values and distinctive function will be protected and perpetuated for future generations. This alternative adopts the management goals and objectives and revised management policies and guidelines (Chapter 2). Our implementation of Alternative E will occur over the next 15 to 20 years, depending on future staffing levels and funding.

Factors Considered in Making the Decision

The decision was based on a thorough analysis of the environmental, social, and economic considerations presented in the revised plan and final EIS. The Service reviewed and considered the impacts identified in Chapter 5 of the draft plan/EIS; relevant issues, concerns, and opportunities; input received throughout the planning process, including advice from technical experts and public comments on the draft plan/EIS; and other factors, including refuge purposes and relevant laws, regulations, and policies. The revised plan and final EIS addresses a variety of needs, including protection of fish and wildlife populations and their habitats and providing opportunities for fish and wildlife-dependent recreation, subsistence, and other public uses. Alternative E contributes significantly to achieving refuge purposes and goals. Alternative E also strengthens the monitoring of fish, wildlife, habitat, and public uses on the refuge to provide means to better respond to changing conditions in the surrounding landscape.

Public Involvement

We are releasing the revised plan and final EIS for a 30-day public review period. We are not soliciting public comments at this time. The Service has afforded government agencies, tribes, and the public extensive opportunity to participate in the preparation of this EIS.

We began the planning process with formal notification to nine federally recognized tribes, two Native village councils, the State of Alaska, four Federal agencies, two Regional Native corporations, one village corporation, and the North Slope Borough. We prepared the revised Plan/final EIS in coordination with the Alaska Department of Natural Resources, the Alaska Department of Fish and Game, the Arctic Slope Regional Corporation, and the Native Village of Kaktovik, all of which had one or more representatives on the planning team. The National Aeronautics and Space Administration (NASA) joined the planning team as a cooperating agency during preparation of the final EIS. We informally consulted with the Gwichyaa Zhee Gwich'in Tribal Government, the Native Village of Kaktovik, the Native Village of Venetie Tribal Government, the Arctic Village Council, and the Venetie Village Council on several occasions throughout the planning process, encouraging their participation in the revised plan. We formally consulted with the Gwichyaa Zhee Gwich'in Tribal Government, the Native Village of Kaktovik, and the Native Village of Venetie Tribal Government in June 2012. We formally consulted with Regional Native Corporation Doyon Limited in September 2012.

The Service published a notice of intent to prepare the plan/EIS in the Federal Register on April 7, 2010 (75 FR 17763). Scoping comments were accepted for 60 days. Open-house style meetings were held in Anchorage, Arctic Village, Barrow, Fairbanks, Fort Yukon, Kaktovik, and Venetie, Alaska. Public hearings were held in all these locations, as well as in Washington, DC The Service received 94,061 written and oral comments during the scoping process.

A notice of availability for the draft plan/EIS was published in the Federal Register on August 15, 2011 (76 FR 50490). The draft EIS was available for public comment from August 15 to November 15, 2011—a 90-day public comment period. The Service held open-house style meetings in Anchorage (September 20, 2011), Arctic Village (November 14, 2011), Fairbanks (August 24, 2011), Fort Yukon (October 28, 2011), Kaktovik (October 25, 2011), and Venetie, Alaska (November 15, 2011). In addition, we held six public hearings on the draft in Anchorage (September 21, 2011), Arctic Village (November 14, 2011), Fairbanks (October 19, 2011), Fort Yukon (October 28, 2011), Kaktovik (November 3, 2011), and Venetie (November 15, 2011).

The Service received 612,285 communications (an example of a communication could be an individual piece of mail, Web site submission, form letter, statement at a public hearing, etc.) during the public review period on the draft plan/EIS. We have considered all public comments throughout the process and have incorporated them in various ways, such as in identifying the significant planning issues and the different alternatives addressed in the revised plan/final EIS.

Changes to the Revised Plan and Final EIS

We made the following changes in the revised plan and final EIS from the draft plan/EIS:

Wilderness Terminology—We added a “Note about Wilderness Terminology” to the front pages of Volumes 1, 2, and 3 to explain how we use wilderness-related terms throughout the revised plan. “Wilderness” (with a capital “W”) refers to designated Wilderness lands, and “wilderness” (not capitalized) is used as an adjective to describe wilderness-related qualities across the Refuge, including in Minimal Management areas.

Acreages—Many of the acreages listed in the revised plan/final EIS differ from those published elsewhere, including the draft plan. The revised acreages reflect our ability to more accurately measure land areas using such technologies as Geographic Information Systems (GIS). We added a “Note about Acreages” to the front pages of Volumes 1, 2, and 3 to explain our approach.

ANILCA—ANLICA Section 1004 does not apply to Arctic Refuge, and all references to it were removed from the revised plan/final EIS.

Cooperating Agencies—Since the draft plan was released, we welcomed the National Aeronautics and Space Administration (NASA) as a cooperating agency.

Refuge Purposes—We recently received clarification on how Refuge purposes guide management. Established in 1960, the Arctic National Wildlife Range (Range) was created “for the purpose of preserving unique wildlife, wilderness, and recreational values.” In 1980, ANILCA re-designated the Range as part of the Arctic National Wildlife Refuge and provided four purposes that guide management of the entire Refuge. Under the provisions of Section 305 of ANILCA, the Range purposes from 1960 remain in force and effect on the lands and waters in the original Range only to the extent they are consistent with ANILCA and the Alaska Native Claims Settlement Act (ANCSA). ANILCA purposes apply to the entire Refuge. The revised plan was edited to fully reflect this interpretation of Refuge purposes.

Goals and Objectives—The goals and objectives included in the draft plan were revised based on public comment and Service review. Changes range from minor clarifications to major rewrites of goals and objectives. In some cases, multiple objectives in the draft plan were combined into one. Additionally, several new objectives were added to the revised plan. These objectives discuss restoration and rehabilitation of degraded and/or impaired sites; management of the Refuge's Marine Protected Area; modifications to the Refuge's management approach to climate change providing more flexibility in the range of available responses to climate change; assessment and inventory of water resources; and formal consultation with tribes and Alaska Native Regional Corporations on a wide range of environmental, biological, cultural, and subsistence issues and concerns.

Management Policies and Guidelines—We made several changes to the Refuge's management policies and guidelines, including rewriting the introduction to better explain how the guidelines were developed to meet the needs of Arctic Refuge, clarifying the authorities of the State of Alaska and the Service, expanding the discussion on U.S. government relations with tribal governments, and clarifying our intent to refrain from activities intended to resist the effects of climate change. We expanded the section on human safety and management emergencies to include threats to refuge resources; restriction of domestic animals such as sheep, goats, and camelids (llamas and alpacas) to prevent the spread of disease to wildlife; prohibition of the use of straw and hay for bedding for dogs; and prohibition of all except pelletized weed-free feed for pack animals, to reduce the potential introduction and spread of invasive plants. Finally, we removed the proposed permit and fees for temporary facilities related to the taking of fish and wildlife left in designated Wilderness from one season to the next.

Alternatives—The projected budget to implement each of the alternatives was revised and is now lower than what was published in the draft plan. The options considered for management of visitor use on the Kongakut River were revised. A Public Use or Visitor Use Management Plan would be completed under all the alternatives, including Alternative A (No Action), and two of the alternatives now include an interim cap on commercial recreation guides from 2013 to 2016, or until step-down plans are completed. Step-down planning would begin immediately upon approval of the revised plan/final EIS, rather than 2 years after approval, and all management prescriptions put in place pending the step-down plans would be considered interim.

Other Chapters and Appendices—Various chapters and appendices were revised and reworked since the draft plan and draft EIS. Chapter 1, Introduction, was updated with details about the public comment period on the draft plan and contains a new section entitled “Concerns Regarding Fish, Wildlife, and Habitats,” as required by ANILCA. Chapter 4, Affected Environment, has a new section on soundscape and a new section on cabins; in addition, subsections on climate change were added to the descriptions of water resources, vegetation, fish, birds, and mammals. Socioeconomic data were updated with 2010 Census data, where available, and a new section on the Poker Flat Research Range and NASA's Sounding Rockets Program was added. Chapter 5, Environmental Consequences, was reworked to provide more consistency, and to identify reasonably foreseeable future actions. Additionally, the chapter considers the effects of each proposed action on the Poker Flat Research Range. Step-down plans were reprioritized in Chapter 6, and the compatibility determinations were finalized and signed (Appendix G). The eligibility and suitability studies for the wild and scenic river review (Appendix I) were combined into a single report, and we added information about the Wild and Scenic Rivers Act and its management implications.

Two New Volumes—A major change made since the draft plan is the addition of Volumes 3 and 4. Volume 3 summarizes all the public comments received on the draft plan/EIS, presents the substantive comments we received, and includes the Service's responses to each substantive comment. Volume 4 contains indices to help the reader navigate through Volume 3 and contains full text samples of communications received on the draft plan.

Comments

We are not soliciting comments at this time. This release is intended to allow the public a period of review. Appendix J in Volume 2 of the plan includes a summary report of public comments received during the scoping period. Volume 3 of the revised plan contains a summary of public comments received on the draft plan/EIS and the Service's responses to substantive comments. Volume 4 of the revised plan includes samples of public comments received on the draft plan/EIS.

Next Steps

Following conclusion of the 30-day public review period, a Record of Decision (ROD) will be signed in which we disclose the Service's final decision and any conditions of approval. Availability of the ROD will be announced through the Federal Register, a press release, the Refuge's Web site, and communications with those on the CCP mailing list.

Geoffrey L. Haskett,
Regional Director, U.S. Fish and Wildlife Service, Anchorage, Alaska.

[FR Doc. 2015-01514 Filed 1-26-15; 8:45 am]

BILLING CODE 4310-55-P